Title 3—

The President

Proclamation 9605 of May 4, 2017

National Day of Prayer, 2017

By the President of the United States of America

A Proclamation

We come together on our National Day of Prayer as one Nation, under God, to show gratitude for our many blessings, to give thanks for His providence, and to ask for His continued wisdom, strength, and protection as we chart a course for the future. We are united in prayer, each according to our own faith and tradition, and we believe that in America, people of all faiths, creeds, and religions must be free to exercise their natural right to worship according to their consciences.

We are also reminded and reaffirm that all human beings have the right, not only to pray and worship according to their consciences, but to practice their faith in their homes, schools, charities, and businesses—in private and in the public square—free from government coercion, discrimination, or persecution. Religion is not merely an intellectual exercise, but also a practical one that demands action in the world. Even the many prisoners around the world who are persecuted for their faith can pray privately in their cells. But our Constitution demands more: the freedom to practice one's faith publicly.

The religious liberty guaranteed by the Constitution is not a favor from the government, but a natural right bestowed by God. Our Constitution and our laws that protect religious freedom merely recognize the right that all people have by virtue of their humanity. As Thomas Jefferson wisely questioned: “can the liberties of a nation be thought secure when we have removed their only firm basis, a conviction in the minds of the people that these liberties are the gift of God?”

In 1789, President George Washington proclaimed a day of public thanksgiving and prayer, calling upon Americans to “unite in most humbly offering our prayers and supplications to the great Lord and Ruler of Nations.” In 1988, the Congress, by Public Law 100-307, called on the President to issue each year a proclamation designating the first Thursday in May as a “National Day of Prayer.” On this National Day of Prayer, the right to pray freely and live according to one's faith is under threat around the world from coercive governments and terrorist organizations. We therefore pray especially for the many people around the world who are persecuted for their beliefs and deprived of their fundamental liberty to live according to their conscience. We pray for the triumph of freedom over oppression, and for God's love and mercy over evil.

NOW, THEREFORE, I, DONALD J. TRUMP, President of the United States of America, by virtue of the authority vested in me by the Constitution and the laws of the United States of America, do hereby proclaim May 4, 2017, as a National Day of Prayer. I invite the citizens of our Nation to pray, in accordance with their own faiths and consciences, in thanksgiving for the freedoms and blessings we have received, and for God's guidance and continued protection as we meet the challenges before us.

IN WITNESS WHEREOF, I have hereunto set my hand this fourth day of May, in the year of our Lord two thousand seventeen, and of the Independence of the United States of America the two hundred and forty-first.

[FR Doc. 2017-09570

Filed 5-8-17; 11:15 am]

Billing code 3295-F7-P